DEPARTMENT OF JUSTICE

Notice of Lodging of Consent Decree Pursuant to the Comprehensive Environmental Response, Compensation and Liability Act

In accordance with 28 CFR 50.7 and section 122 of the Comprehensive Response, Compensation and Liability Act (“CERCLA”), 42 U.S.C. 9622, the Department of Justice gives notice that on October 30, 2002, a proposed consent decree in United States v. DeMert & Dougherty, Inc., No. 2:02CV434 (N.D. Ind.), was lodged with the United States District Court for the Northern District of Indiana.

The United States' complaint seeks the recovery, pursuant to CERCLA section 107, 42 U.S.C. 9607, of unreimbursed costs that have been incurred by the United States at the American Chemical Service, Inc. Superfund Site in Griffith, Lake County, Indiana (“ACS Site”), as well as the implementation, pursuant to CERCLA section 106, 42 U.S.C. 9606, of the United States Environmental Protection Agency's selected remedy for the ACS site.

On January 11, 1996, DeMert & Dougherty, Inc. filed for bankruptcy under chapter 11 of the Bankruptcy Code in the U.S. District Court for the Northern District of Illinois. (In re: DeMert & Dougherty, Inc. (Bankr. N.D. Ill. (Eastern Div. No. 96 B 0851)).) The case was converted to a chapter 7 bankruptcy on June 27, 1996. In that case, the United States filed a proof of claim pertaining to the costs that it incurred at the ACS site.

Under the proposed consent decree, the United States would receive an allowed general unsecured claim of $2,225,000 in the chapter 7 bankruptcy, which would resolve both the United States' proof of claim and DeMert & Dougherty, Inc.'s liability at the ACS site. Any portion of the $2,225,000 that is received by the United States will be deposited in an ACS special account within the Superfund.

The Department of Justice will receive for a period of 30 days from the date of this publication comments relating to the proposed consent decree. Comments should be addressed to the Assistant Attorney General, Environment and Natural Resources Division, P.O. Box 7611, U.S. Department of Justice, Washington, DC 20044-7611, and should refer to United States v. DeMert & Dougherty, Inc., No. 2:02CV434 (N.D. Ind.), D.J. Ref. 90-11-3-1094/5.

The consent decree may be examined at the Office of the United States Attorney, Northern District of Indiana, 5400 Federal Plaza, Suite 1500, Hammond, Indiana 44320 (contact Assistant United States Attorney Carol A. Davilo, 219-937-5500), and at U.S. EPA Region 5, 77 W. Jackson Blvd., Chicago, Illinois (contact Assistant Regional Counsel Michael McClary (312-886-7163). A copy of the proposed consent decree may be obtained by mail from the Consent Decree Library, P.O. Box 7611, Washington, DC 20044. Requests for a copy of the proposed consent decree also may be faxed to Ms. Tonia Fleetwood, fax no. 202-616-6584, telephone confirmation number 202-514-1547. In requesting a copy, please refer to United States v. DeMert & Dougherty, Inc. No. 2:02CV434 (N.D. Ind.), and DOJ Reference Number 90-11-3-1094/4, and enclose a check in the amount of $5.25 (21 pages at 25 cents per page reproduction costs), made payable to the U.S. Treasury.

William Brighton,
Assistant Chief, Environmental Enforcement Section, Environment and Natural Resources Division.

[FR Doc. 02-30797 Filed 12-4-02; 8:45 am]

BILLING CODE 4410-15-M